SMALL BUSINESS ADMINISTRATION

[Declaration of Disaster #3592]

Commonwealth of Virginia (Amendment #1)

In accordance with a notice received from the Department of Homeland Security—Federal Emergency Management Agency, effective June 26, 2004, the above numbered declaration is hereby amended to establish the incident period for this disaster as beginning on May 24, 2004, and continuing through June 26, 2004.

All other information remains the same, i.e., the deadline for filing applications for physical damage is August 16, 2004, and for economic injury the deadline is March 15, 2005.

(Catalog of Federal Domestic Assistance Program Nos. 59002 and 59008.)

Dated: June 30, 2004.
Herbert L. Mitchell,
Associate Administrator for Disaster Assistance.

[FR Doc. 04-15475 Filed 7-7-04; 8:45 am]

BILLING CODE 8025-01-P